NATIONAL COUNCIL ON DISABILITY

Sunshine Act Meetings; Correction

SUMMARY: The National Council on Disability published a notice in the Federal Register of November 22, 2011, concerning a meeting of the Council. This document contains a correction to the times of the meeting to provide additional time for policy discussion as well as a correction to the call-in phone number and passcode.

FOR FURTHER INFORMATION CONTACT: Anne Sommers, NCD, 1331 F Street NW., Suite 850, Washington, DC 20004; (202) 272-2004 (V), (202) 272-2074 (TTY).

In the Federal Register of November 22, 2011, in FR Doc. 11-30224, on page 72220, in the first column, correct the “Times and Dates” caption to read:

TIME AND DATES: The Members of the National Council on Disability (NCD) will meet by phone on Thursday, December 8, 2011, 1 p.m.-6 p.m., ET.

In the same Federal Register of November 22, 2011, in FR Doc. 11-30224, on page 72220, in the first column, please correct the “Place” caption to read:

Place: The meeting will occur by phone. NCD staff will participate in the call from the Access Board Conference Room, 1331 F Street NW., Suite 800, Washington, DC. Interested parties may join the meeting in person at the Access Board Conference Room or may join the phone line in a listening-only capacity (with the exception of the public comment period at 4 p.m., Eastern) using the following call-in information: Call-in number: 1-(800) 533-9703; Meeting Name: NCD Meeting; Confirmation #: 3941503; Host Name: Aaron Bishop.

Dated: November 30, 2011.
Aaron Bishop,
Executive Director.

[FR Doc. 2011-31203 Filed 12-1-11; 11:15 am]

BILLING CODE 6820-MA-P